DEPARTMENT OF COMMERCE

International Trade Administration

Environmental Technologies Trade Advisory Committee (ETTAC) Public Meeting

AGENCY: International Trade Administration, DOC.

ACTION: Notice of an Open Meeting of a Federal Advisory Committee.

SUMMARY: This notice sets forth the schedule and proposed agenda of a meeting of the Environmental Technologies Trade Advisory Committee (ETTAC).

DATES: The teleconference meeting is scheduled for Monday, April 30, 2018 from 1:00 p.m.-3:00 p.m. Eastern Daylight Time (EDT). The deadline for members of the public to register or to submit written comments for dissemination prior to the teleconference is 5:00 p.m. EDT on Monday, April 23, 2018. The deadline for members of the public to request auxiliary aids is 5:00 p.m. EDT on Monday, April 23, 2018.

ADDRESSES: The meeting will take place via teleconference. The address to register and obtain call-in information; submit comments; or request auxiliary aids is: Ms. Tracy Gerstle, Office of Energy & Environmental Industries (OEEI), International Trade Administration, Room 28018, 1401 Constitution Avenue NW, Washington, DC 20230 or email: tracy.gerstle@trade.gov.

FOR FURTHER INFORMATION CONTACT: Ms. Tracy Gerstle, Office of Energy & Environmental Industries (OEEI), International Trade Administration, Room 28018, 1401 Constitution Avenue NW, Washington, DC 20230 (Phone: 202-482-0810; Fax: 202-482-5665; email: tracy.gerstle@trade.gov).

SUPPLEMENTARY INFORMATION: The meeting will take place on April 30 from 1:00 p.m. to 3:00 p.m. EDT. The general meeting is open to the public and time will be permitted for public comment from 2:45-3:00 p.m. EDT. Members of the public seeking to attend the meeting are required to register in advance. Those interested in attending must provide notification by Monday, April 23, 2018 at 5:00 p.m. EDT, via the contact information provided above. This teleconference is accessible to people with disabilities. Requests for auxiliary aids should be directed to OEEI at (202) 482-0810 no less than one week prior to the meeting. Requests received after this date will be accepted, but it may not be possible to accommodate them.

Written comments concerning ETTAC affairs are welcome any time before or after the meeting. To be considered during the meeting, written comments must be received by Monday, April 23, 2018 at 5:00 p.m. EDT to ensure transmission to the members before the meeting. Minutes will be available within 30 days of this meeting.

Topic to be considered: During the April 30, 2018 meeting the three ETTAC subcommittees will discuss their top priorities for this charter period, with the goal of finalizing the ETTAC's recommendations for the Secretary of Commerce, for their current two year charter, which ends in August 2018. Topics under discussion include optimizing the U.S. Government's trade promotion programs, identifying market access barriers, pros and cons of existing trade agreements, and discussing foreign procurement policy, including issues with financing mechanisms, localization requirements and non-tariff barriers. The ETTAC's subcommittees are: Trade Promotion and Export Market Development, Professional Services and Infrastructure Advancement, and Trade Policy and American Competitiveness.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was originally chartered in May of 1994. It was most recently re-chartered until August 2018.

Dated: April 10, 2018.
Man Cho,
Deputy Director, Office of Energy and Environmental Industries.

[FR Doc. 2018-07861 Filed 4-13-18; 8:45 am]

BILLING CODE 3510-DR-P